DEPARTMENT OF THE INTERIOR

National Park Service

[N6788; NPS-WASO-NAGPRA-NPS0041557; PPWOCRADN0-PCU00RP14.R50000]

Notice of Intended Repatriation: University of California, Davis, Davis, CA

AGENCY: National Park Service, Interior.

ACTION: Notice.

SUMMARY: In accordance with the Native American Graves Protection and Repatriation Act (NAGPRA), the University of California, Davis (UC Davis) intends to repatriate certain cultural items that meet the definition of objects of cultural patrimony and that have a cultural affiliation with the Indian Tribes or Native Hawaiian organizations in this notice.

DATES: Repatriation of the cultural items in this notice may occur on or after January 20, 2026.

ADDRESSES: Send additional, written requests for repatriation of the cultural items in this notice to Megon Noble, NAGPRA Project Manager, University of California, Davis, 251 Mrak Hall, One Shields Avenue, Davis, CA 95616, email mnoble@ucdavis.edu.

SUPPLEMENTARY INFORMATION: This notice is published as part of the National Park Service's administrative responsibilities under NAGPRA. The determinations in this notice are the sole responsibility of UC Davis, and additional information on the determinations in this notice, including the results of consultation, can be found in the summary or related records. The National Park Service is not responsible for the determinations in this notice.

Abstract of Information Available

A total of five cultural items or lots have been requested for repatriation. The objects of cultural patrimony are three baskets, one lot of 13 pieces of dentalium shell money, and one chert flake tool. The University is unaware of any specific treatment of the individual objects of cultural patrimony with pesticides, preservatives, or other substances that represent a potential hazard to the objects or to persons handling the objects. However, records located in the Department of Anthropology Museum indicate that approximately ⅓ of the Merriam collection had been treated with Berlou, a dry mothproofing substance used as an insecticide, in 1964. It is unknown which baskets were treated.

Two of the objects of cultural patrimony, CHM 705 and 706, were purchased in Bucksport in Humboldt Bay, California on September 13, 1910. These two baskets were most likely made by Mrs. Jerry James (Wiyot). CHM 1501 includes 13 pieces of dentalium shell money pieces purchased on September 14, 1910, from a Humboldt Bay Soo-lah'-te-luk (Wiyot) woman who was also possibly Mrs. Jerry James. CHM 707 is a mortar basket that Merriam purchased in October 1921 in Humboldt Bay from an unknown Soo-lah'-te-luk (Wiyot) woman. UCDA-1106 is a chert flake tool, from the UC Davis Department of Anthropology teaching collection with very little provenience other than it was surface collected by Dr. Robert Bettinger in the 1960s to 70s in Fortuna, in Humboldt County, CA-HUM-15.

Determinations

UC Davis has determined that:

• The five objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Wiyot Tribe, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the UC Davis must determine the most appropriate requestor prior to repatriation. Requests for joint repatriation of the cultural items are considered a single request and not competing requests. The UC Davis is responsible for sending a copy of this notice to the Indian Tribes and Native Hawaiian organizations identified in this notice and to any other consulting parties.

Authority: Native American Graves Protection and Repatriation Act, 25 U.S.C. 3004 and the implementing regulations, 43 CFR 10.9.

Dated: December 8, 2025.
Melanie O'Brien,
Manager, National NAGPRA Program.

[FR Doc. 2025-23366 Filed 12-18-25; 8:45 am]

BILLING CODE 4312-52-P